ENVIRONMENTAL PROTECTION AGENCY

[CERCLA-02-2017-2008; FRL-10013-40-Region 2]

Proposed CERCLA Sections 104, 106, 107 and 122 Modification to Settlement Agreement and Order on Consent for Removal Action by Bona Fide Prospective Purchaser for the Alfred Heller Heat Treating Superfund Site, City of Clifton, Passaic County, New Jersey

AGENCY: Environmental Protection Agency.

ACTION: Notice; request for public comment.

SUMMARY: In accordance with the Comprehensive Environmental Response, Compensation and Liability Act (“CERCLA”) of 1980, as amended, notice is hereby given by the U.S. Environmental Protection Agency (“EPA”), Region 2, of a proposed modification to a bona fide prospective purchaser settlement agreement, with 356 Getty Avenue, LLC for the Alfred Heller Heat Treating Superfund Site (“Site”), located in the City of Clifton, Passaic County, New Jersey.

DATES: Comments must be submitted on or before October 7, 2020.

ADDRESSES: Comments can be sent via email to Deborah Schwenk at schwenk.deborah@epa.gov. Comments should reference the Alfred Heller Heat Treating Superfund Site, City of Clifton, Passaic County, New Jersey, Index No. II-CERCLA-02-2017-2008. The proposed settlement is available for public inspection at this weblink: https://semspub.epa.gov/src/document/02/598770.

FOR FURTHER INFORMATION CONTACT: Deborah Schwenk, Assistant Regional Counsel, Office of Regional Counsel, U.S. Environmental Protection Agency. Email: schwenk.deborah@epa.gov. Telephone: 212-637-3149.

SUPPLEMENTARY INFORMATION: Under the proposed modification, 356 Getty Avenue, LLC agrees to perform certain response actions at the Site in addition to those already required by the bona fide prospective purchaser agreement. The terms and conditions of the bona fide prospective purchaser agreement are neither altered nor affected by the proposed modification except as expressly provided in the proposed modification. For fourteen (14) days following the date of publication of this document, EPA will receive written comments relating to the proposed modification. EPA will consider all comments received and may modify or withdraw its consent to the proposed modification if comments received disclose facts or considerations that indicate that the proposed modification is inappropriate, improper, or inadequate. EPA's response to any comments received will be available for public inspection online and/or at EPA Region 2, 290 Broadway, New York, New York 10007-1866.

Dated: September 14, 2020.
Pasquale Evangelista,
Director, Superfund and Emergency Management Division, U.S. Environmental Protection Agency, Region 2.

[FR Doc. 2020-20809 Filed 9-21-20; 8:45 am]

BILLING CODE 6560-50-P